DEPARTMENT OF COMMERCE

International Trade Administration

[A-570-983]

Drawn Stainless Steel Sinks From the People's Republic of China: Final Results of the Antidumping Duty Administrative Review; 2012-2014

AGENCY: Enforcement and Compliance, International Trade Administration, Department of Commerce.

SUMMARY: On May 7, 2015, the Department of Commerce (Department) published the preliminary results of the administrative review of the antidumping duty (AD) order on drawn stainless steel sinks (drawn sinks) from the People's Republic of China (PRC).¹ The review covers seven producers/exporters of the subject merchandise, including the following mandatory respondents: Guangdong Dongyuan Kitchenware Industrial Co., Ltd. (Dongyuan) and Guangdong Yingao Kitchen Utensils Co., Ltd. (Yingao). The period of review (POR) is October 4, 2012, through March 31, 2014. We provided interested parties an opportunity to comment on the Preliminary Results. After reviewing the comments received and making corrections to the margin calculations, where appropriate, we continue to find that Dongyuan and Yingao both made sales of subject merchandise to the United States at prices below normal value (NV) during the POR. The final dumping margins are listed below in the section entitled “Final Results of the Review.”

¹ See Drawn Stainless Steel Sinks from the People's Republic of China: Preliminary Results of Antidumping Duty Administrative Review, 80 FR 26227 (May 7, 2015) (Preliminary Results).

DATES: Effective date: November 10, 2015.

FOR FURTHER INFORMATION CONTACT: Brian C. Smith or Reza Karamloo, AD/CVD Operations, Office II, Enforcement and Compliance, International Trade Administration, U.S. Department of Commerce, 1401 Constitution Avenue NW., Washington, DC 20230; telephone: (202) 482-1766 and (202) 482-4470, respectively.

SUPPLEMENTARY INFORMATION:

Background

For a description of events that have occurred since the publication of the Preliminary Results, see the Issues and Decision Memorandum.² The Issues and Decision Memorandum is a public document and is on file electronically via Enforcement and Compliance's AD and Countervailing Duty (CVD) Centralized Electronic Service System (ACCESS). ACCESS is available to registered users at http://access.trade.gov and in the Central Records Unit, Room B8024 of the main Department of Commerce building. In addition, a complete version of the Issues and Decision Memorandum can be accessed directly at http://enforcement.trade.gov/frn/index.html. The signed Issues and Decision Memorandum and the electronic version of the Issues and Decision Memorandum are identical in content.

² See Memorandum to Paul Piquado, Assistant Secretary for Enforcement and Compliance, from Christian Marsh, Deputy Assistant Secretary for Antidumping and Countervailing Duty Operations, “Drawn Stainless Steel Sinks from the People's Republic of China: Issues and Decision Memorandum for the Final Results of the Antidumping Duty Administrative Review; 2012-2014,” dated concurrently with and hereby adopted by this notice (Issues and Decision Memorandum).

Scope of the Order

The products covered by the order include drawn stainless steel sinks. Imports of subject merchandise are currently classified under the Harmonized Tariff Schedule of the United States (HTSUS) subheadings 7324.10.0000 and 7324.10.0010. Although the HTSUS subheadings are provided for convenience and customs purposes, the written description of the scope of the order is dispositive.³

³ For a complete description of the Scope of the Order, see Issues and Decision Memorandum.

Analysis of Comments Received

All issues raised in the case and rebuttal briefs are addressed in the Issues and Decision Memorandum. A list of the issues which parties raised and to which we respond in the Issues and Decision Memorandum is attached to this notice as Appendix I.

Changes Since the Preliminary Results

Based on our review of the record and comments received from interested parties regarding our Preliminary Results, we made certain revisions to the margin calculations for Dongyuan, Yingao, and the separate rate respondents.⁴

⁴ For further explanation regarding these changes, see Issues and Decision Memorandum.

Separate Rate Respondents

In the Preliminary Results, we determined that the mandatory respondents, Dongyuan and Yingao, and the following separate rate applicant companies satisfied the criteria for separate rate status: Foshan Zhaoshun Trade Co., Ltd.; Guangdong New Shichu Import & Export Company Limited; Yuyao Afa Kitchenware Co., Ltd.; Zhongshan Newecan Enterprise Development Corporation Limited; and Zhongshan Superte Kitchenware Co., Ltd.⁵ We received no comments or arguments since the issuance of the Preliminary Results that provide a basis for reconsideration of our decision with respect to these companies. Therefore, the Department continues to find that the companies listed above meet the criteria for a separate rate.

⁵ See Preliminary Results, 80 FR 26228; see also Memorandum to Paul Piquado, Assistant Secretary for Enforcement and Compliance, from Christian Marsh, Deputy Assistant Secretary for Antidumping and Countervailing Duty Operations, “Decision Memorandum for Preliminary Results of the Antidumping Duty Administrative Review: Drawn Stainless Steel Sinks from the People's Republic of China” (April 30, 2015) (Preliminary Decision Memorandum), at 6-9.

Rate for Non-Examined Separate Rate Respondents

In the Preliminary Results, we assigned an average of the weighted-average dumping margins assigned to Dongyuan and Yingao to the non-individually examined companies that are eligible for a separate rate (i.e., the separate rate applicant companies). No parties commented on the methodology for calculating this separate rate. Therefore, in these final results of the review, we continue to use an average of the weighted-average dumping margins assigned to Dongyuan and Yingao,⁶ which is 4.29 percent, as the rate for those companies which were not examined and which are eligible for a separate rate. The separate rate applicant companies receiving this rate are identified by name and listed below in the section entitled “Final Results of the Review.”

⁶ See Memorandum to the File from Brian Smith, Team Leader, “Drawn Stainless Steel Sinks from the People's Republic of China: Calculation of the Final Margin for Separate Rate Companies,” dated concurrently with this memorandum (Final Results Separate Rate Calculation Memorandum).

Final Results of the Review

In the Preliminary Results, the Department found that Feidong Import & Export Co., Ltd.; Shunde Native Produce Import & Export Co, Ltd. of Guangdong; and Zhongshan Silk Import & Export Group Co., Ltd. of Guangdong were not eligible for a separate rate, and therefore, were part of the PRC-wide entity.⁷ Because the status of these companies has not changed since the Preliminary Results, we continue to find that they are ineligible for a separate rate and part of the PRC-wide entity. Because no party requested a review of the PRC-wide entity and the Department no longer considers the PRC-wide entity as an exporter conditionally subject to administrative reviews,⁸ we did not conduct a review of the PRC-wide entity. Thus, the rate for the PRC-wide entity is not subject to change as a result of this review.

⁷ See Preliminary Decision Memorandum, at 10-12.

⁸ See Antidumping Proceedings: Announcement of Change in Department Practice for Respondent Selection in Antidumping Duty Proceedings and Conditional Review of the Nonmarket Economy Entity in NME Antidumping Duty Proceedings, 78 FR 65963, 65969-70 (November 4, 2013).

For companies subject to this review, which established their eligibility for a separate rate, the Department finds that the following weighted-average dumping margins exist for the period October 4, 2012, through March 31, 2014:

Exporters | Weighted- average dumping margin ⁹ (percent)
Foshan Zhaoshun Trade Co., Ltd | 4.29
Guangdong Dongyuan Kitchenware Industrial Co., Ltd | 2.82
Guangdong New Shichu Import & Export Company Limited | 4.29
Guangdong Yingao Kitchen Utensils Co., Ltd | 8.06
Yuyao Afa Kitchenware Co., Ltd | 4.29
Zhongshan Newecan Enterprise Development Corporation Limited | 4.29
Zhongshan Superte Kitchenware Co., Ltd | 4.29

Assessment Rates

⁹ These rates have been adjusted for the estimated domestic subsidy pass-through.

Pursuant to section 751(a)(2)(C) of the Tariff Act of 1930, as amended (the Act), and 19 CFR 351.212(b), the Department determined, and U.S. Customs and Border Protection (CBP) shall assess, antidumping duties on all appropriate entries of subject merchandise in accordance with the final results of this review. The Department intends to issue appropriate assessment instructions directly to CBP 15 days after publication of the final results of this administrative review.

For each individually examined respondent in this review (i.e., Dongyuan and Yingao) which has a weighted-average dumping margin which is not zero or de minimis (i.e., less than 0.5 percent), we will calculate importer- (or customer-) specific per-unit duty assessment rates based on the ratio of the total amount of dumping calculated for the importer's (or customer's) examined sales to the total sales quantity associated with those sales, in accordance with 19 CFR 351.212(b)(1).¹⁰ Where either the respondent's weighted-average dumping margin is zero or de minimis, or an importer-(or customer-) specific assessment rate is zero or de minimis, we will instruct CBP to liquidate the appropriate entries without regard to antidumping duties.

¹⁰ In these final results, the Department continues to apply the assessment rate calculation method adopted in Antidumping Proceedings: Calculation of the Weighted-Average Dumping Margin and Assessment Rate in Certain Antidumping Proceedings: Final Modification, 77 FR 8101 (February 14, 2012).

For the respondents which were not selected for individual examination in this administrative review and which qualified for a separate rate, the assessment rate is equal to the average of the weighted-average dumping margins assigned to Dongyuan and Yingao, or 4.29 percent.

For the companies identified above as part of the PRC-wide entity, we will instruct CBP to apply an ad valorem assessment rate of 76.45 ¹¹ percent to all entries of subject merchandise during the POR which were produced and/or exported by those companies.

¹¹ The PRC-wide rate determined in the investigation was 76.53 percent. See Drawn Stainless Steel Sinks from the People's Republic of China: Amended Final Determination of Sales at Less Than Fair Value and Antidumping Duty Order, 78 FR 21592, 21594 (April 11, 2013). This rate was adjusted for export subsidies and estimated domestic subsidy pass through to determine the cash deposit rate (76.45 percent) collected for companies in the PRC-wide entity. See explanation in Drawn Stainless Steel Sinks From the People's Republic of China: Investigation, Final Determination, 78 FR 13019, 13025 (February 26, 2013).

The Department has refined its assessment practice in NME cases. Pursuant to this refinement in practice, for entries that were not reported in the U.S. sales databases submitted by companies individually examined during this review, the Department will instruct CBP to liquidate such entries at the PRC-wide rate. In addition, if the Department determines that an exporter under review had no shipments of the subject merchandise, any suspended entries that entered under that exporter's case number (i.e., at that exporter's rate) will be liquidated at the PRC-wide rate.¹²

¹² For a full discussion of this practice, see Non-Market Economy Antidumping Proceedings: Assessment of Antidumping Duties, 76 FR 65694 (October 24, 2011) (NME Antidumping Proceedings).

Cash Deposit Requirements

The following cash deposit requirements will be effective upon publication of the final results of this administrative review for all shipments of the subject merchandise from the PRC entered, or withdrawn from warehouse, for consumption on or after the publication date, as provided for by section 751(a)(2)(C) of the Act: (1) For the companies listed above that have a separate rate, the cash deposit rate will be that rate established in the final results of this review (except, if the rate is zero or de minimis, then a cash deposit rate of zero will be established for that company); (2) for previously investigated or reviewed PRC and non-PRC exporters that received a separate rate in a prior segment of this proceeding, the cash deposit rate will continue to be the existing exporter-specific rate; (3) for all PRC exporters of subject merchandise that have not been found to be entitled to a separate rate, the cash deposit rate will be the rate for the PRC-wide entity, which is 76.45 percent; and (4) for all non-PRC exporters of subject merchandise which have not received their own rate, the cash deposit rate will be the rate applicable to the PRC exporter(s) that supplied that non-PRC exporter. These deposit requirements, when imposed, shall remain in effect until further notice.

Disclosure

The Department intends to disclose to the parties the calculations performed for these final results within five days of the date of publication of this notice in accordance with 19 CFR 351.224(b).

Notification to Importers

This notice also serves as a final reminder to importers of their responsibility under 19 CFR 351.402(f) to file a certificate regarding the reimbursement of antidumping and/or countervailing duties prior to liquidation of the relevant entries during this POR. Failure to comply with this requirement could result in the Department's presumption that reimbursement of antidumping and/or countervailing duties occurred and the subsequent assessment of doubled antidumping duties.

Notification Regarding Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

This notice is published in accordance with sections 751(a)(l) and 777(i)(l) of the Act.

Dated: November 2, 2015.
Paul Piquado,
Assistant Secretary for Enforcement and Compliance.

Appendix I—List of Topics Discussed in the Issues and Decision Memorandum

I. Summary

II. Background

III. Scope of the Order

IV. Margin Calculations

V. Discussion of the Issues

Comment 1. Eligibility of Respondents for a “Double Remedy” Pass-Through Adjustment

Comment 2. Subsidy Rates Used as the Basis for the “Double Remedy” Pass-Through Adjustment

Comment 3. Use of Bloomberg Data

Comment 4. Statutory Authority To Consider an Alternative Comparison Method

Comment 5. Notice and Comment Process Necessary for New Differential Pricing Analysis

Comment 6. Differential Pricing Analysis

Comment 7. Zeroing

Comment 8. Definition of Purchaser and Region in the Cohen's d Test

Comment 9. Surrogate Financial Ratios

Comment 10. Stainless Steel Surrogate Value

Comment 11. Treatment of Labor Expenses in the Financial Ratios and Adjustment To Labor Surrogate Value

Comment 12. Calculation of the Labor Surrogate Value

Comment 13. Truck Freight Surrogate Value

Comment 14. Inclusion of Letter of Credit Costs in the Brokerage and Handling Surrogate Value

Comment 15. Weight Adjustment Made to the Brokerage and Handling and Truck Surrogate Values

Comment 16. Wooden Box Factor Calculation for Yingao

Comment 17. Packing Material Consumption Weights for Yingao

Comment 18. Dongyuan Reported Gross Weights

Comment 19. Separate Rate Eligibility for Feidong

VI. Recommendation

[FR Doc. 2015-28644 Filed 11-9-15; 8:45 am]

BILLING CODE 3510-DS-P